NATIONAL FOUNDATION ON THE ARTS AND THE HUMANITIES

Institute of Museum and Library Services

Sunshine Act Meeting of the National Museum and Library Services Board

AGENCY: Institute of Museum and Library Services (IMLS), NFAH.

ACTION: Notice of Meeting.

SUMMARY: The National Museum and Library Services Board, which advises the Director of the Institute of Museum and Library Services on general policies with respect to the duties, powers, and authority of the Institute relating to museum, library and information services, will meet on May 9, 2013.

DATE AND TIME: Thursday, May 9, 2013, from 9:00 a.m. to 2:00 p.m.

PLACE: The meeting will be held at the Institute of Museum and Library Services, 1800 M Street NW., Suite 900, Washington, DC, 20036. Telephone: (202) 653-4798.

STATUS: Part of this meeting will be open to the public. The rest of the meeting will be closed pursuant to subsections (c)(4) and (c)(9) of section 552b of Title 5, United States Code because the Board will consider information that may disclose: Trade secrets and commercial or financial information obtained from a person and privileged or confidential; and information the premature disclosure of which would be likely to significantly frustrate implementation of a proposed agency action.

AGENDA: Twenty-Seventh Meeting of the National Museum and Library Service Board Meeting: 9:00 a.m.-12:00 p.m. Twenty-Seventh National Museum and Library Services Board Meeting:

I. Welcome

II. Financial Update

III. Legislative Update

IV. Program Updates

V. Board Program

VI. Adjournment

(Open to the Public)

12:00 p.m.-2:00 p.m. Executive Session

(Closed to the Public)

FOR FURTHER INFORMATION CONTACT: Katherine Maas, Program Specialist, Institute of Museum and Library Services, 1800 M Street NW., 9th Floor, Washington, DC 20036. Telephone: (202) 653-4676.

Dated: April 11, 2013.
Nancy Weiss,
General Counsel.

[FR Doc. 2013-08995 Filed 4-17-13; 8:45 am]

BILLING CODE 7036-01-M